DEPARTMENT OF AGRICULTURE

Forest Service

Reconstruction of Meadows Road #205 and Issuance of a Road Easement for Access to Private Land

AGENCY: Forest Service, Agriculture.

ACTION: Notice of availability of a Draft Environmental Impact Statement for proposal to issue a road easement to a private landowner and to permit the landowner to reconstruct the Meadows Road #205 to acces their private land in-holding.

SUMMARY: Pursuant to the National Environmental Policy Act (NEPA) and implementing regulations and other applicable statutes, the U.S. Forest Service announces the availability of a Draft Environmental Impact Statement (DEIS) for an applicants proposal to acquire a road easement and reconstruct an access road to their private land inholding on the San Juan National Forest. The DEIS analyzes the impacts of issuing the road easement and reconstructing Forest Development Road (FDR) #205 to a standard that would allow reasonable access to the landowners private land in holding. The EIS document was prepared by a third party contractor chosen by the Forest Service.

DATES: Written comments on the FEIS will be accepted for 45 days following the date that the Environmental Protection Agency (EPA) publishes their notice of availability of the DEIS in the Federal Register. The U.S. Forest Service will notify all parties on this project's mailing list of the dates when comments will be accepted.

ADDRESSES: Please address questions, comments or requests for copies of the FEIS to the San Juan Public Lands Center, Attn: Jim Powers, 15 Burnett Court, Durango, Colorado 81301; or phone (970) 247-4874.

FOR FURTHER INFORMATION CONTACT: Tom Rennick at (970) 882-6823 or Jim Powers at (970) 247-4874.

SUPPLEMENTARY INFORMATION: The responsible official for issuance of the road easement is Rick Cables, Rocky Mountain Regional Forester at PO Box 25127, Lakewood, Colorado 80225-0127. The EIS addresses road reconstruction and issuance of an easement across such road in an inventoried roadless area for the purpose of providing the applicant access to non-federally owned lands within the boundaries of the San Juan National Forest. The private landowner has proposed use of the existing road across the inventoried roadless area to meet their access needs. The Forest Service is seeking information, comments, and assistance from individuals, organizations, tribal governments, and federal, state and local agencies that are interested in or may be affected by the proposed action. The range of alternatives considered on the EIS is based upon public issues raised during scoping in this project, management concerns, and resource management opportunities.

Comments, including names and street addresses of respondents, will be available for public review at the San Juan Public Lands Center, during regular business hours (8 a.m. to 4:30 p.m.), Monday through Friday, except holidays, and may be published as part of the final EIS. Individual respondents may request confidentiality. If you wish to withhold your name or street address from public review or from disclosure under the Freedom of Information Act, you must state this prominently at the beginning of your written comment. Such requests will be honored to the extent allowed by law. All submissions from organizations or businesses, and from individuals identifying themselves as representatives of officials of organizations or businesses, will be made available for public inspection in their entirety.

Dated: April 30, 2002.
Calvin N. Joyner,
Forest Supervisor, San Juan National Forest.

[FR Doc. 02-12439 Filed 5-16-02; 8:45 am]

BILLING CODE 3410-BS-M